NUCLEAR REGULATORY COMMISSION

[Docket No. 50-302]

Florida Power Corporation (Crystal River Unit No. 3); Order Approving Application Regarding Proposed Acquisition By CP&L Holdings, Inc. Of Florida Progress Corporation; Correction

AGENCY: Nuclear Regulatory Commission.

ACTION: Correction.

SUMMARY: This document corrects a notice appearing in the Federal Register on May 31, 2000 (65 FR 34740), in which the Commission issued an order under 10 CFR 50.80 approving the indirect transfer of control of Florida Power Corporation's interest in Crystal River Unit No. 3, Facility License No. DPR-72, that will occur under a proposed share exchange transaction between Florida Progress Corporation and CP&L Holdings, Inc. This action is necessary to correct an erroneous date.

FOR FURTHER INFORMATION CONTACT: Len Wiens, Office of Nuclear Reactor Regulation, Nuclear Regulatory Commission, telephone 301-415-1495, e-mail: law@nrc.gov.

SUPPLEMENTARY INFORMATION: On page 34741, in the second column, in the fourth complete paragraph, “May 23, 2000,” is corrected to read “May 22, 2000.”

Dated at Rockville, Maryland, this 5th day of September 2000.
For the Nuclear Regulatory Commission.
John A. Zwolinski,
Director, Division of Licensing Project Management, Office of Nuclear Reactor Regulation.

[FR Doc. 00-23527 Filed 9-12-00; 8:45 am]

BILLING CODE 7590-01-P